DEPARTMENT OF COMMERCE

National Institute of Standards and Technology

Notice of Invention Available for Licensing

AGENCY: National Institute of Standards and Technology, Commerce.

ACTION: Notice of Invention Available for Licensing.

SUMMARY: The invention listed below is owned by the U.S. Government, as represented by the Department of Commerce. The invention is available for licensing in accordance with 35 U.S.C. 207 and 37 CFR Part 404 to achieve expeditious commercialization of results of federally funded research and development.

FOR FURTHER INFORMATION CONTACT: Technical and licensing information on this invention may be obtained by writing to: National Institute of Standards and Technology, Office of Technology Partnerships, Attn: Mary Clague, Building 222, Room A240, Gaithersburg, MD 20899. Information is also available via telephone: 301-975-4188, fax 301-975-3482, or e-mail: mary.clague@nist.gov. Any request for information should include the NIST Docket number and title for the invention as indicated below.

The invention available for licensing is: [NIST DOCKET NUMBER: 99-017/-032/-037US]

Title: Positioning Stage.

Abstract: This invention provides a positioning device and method for positioning objects. The device includes a movable stage and a pair of levers. The pair of levers is symmetric about a first axis of the movable stage. Additionally, the pair of levers is parallel to a second axis of the movable stage. This second axis is perpendicular to the first axis. Each of the pair of levers applies a force to the movable stage. Each of the pair of levers moves in an arc. The two levers move in opposite directions along their respective arc. The two arcs are symmetrical about an axis of the movable stage.

Dated: July 22, 2009.
Patrick Gallagher,
Deputy Director.

[FR Doc. E9-17913 Filed 7-27-09; 8:45 am]

BILLING CODE 3510-13-P